DEPARTMENT OF COMMERCE

International Trade Administration

[A-489-833]

Large Diameter Welded Pipe From the Republic of Türkiye: Preliminary Results and Rescission, in Part, of Antidumping Duty Administrative Review; 2023-2024

AGENCY: Enforcement and Compliance, International Trade Administration, Department of Commerce.

SUMMARY: The U.S. Department of Commerce (Commerce) preliminarily determines that large diameter welded pipe (welded pipe) from the Republic of Türkiye (Türkiye) is not being sold in the United States at less than normal value (NV) during the period of review (POR), May 1, 2023, through April 30, 2024. We are also rescinding this review with respect to three companies for which all requests for review where withdrawn and seven companies which had no entries in the U.S. Customs and Border Protection (CBP) data. Interested parties are invited to comment on these preliminary results.

DATES: Applicable July 28, 2025.

FOR FURTHER INFORMATION CONTACT: Benito Ballesteros, AD/CVD Operations, Office IX, Enforcement and Compliance, International Trade Administration, U.S. Department of Commerce, 1401 Constitution Avenue NW, Washington, DC 20230; telephone: (202) 482-7425.

SUPPLEMENTARY INFORMATION:

Background

On May 2, 2019, Commerce published in the Federal Register the antidumping duty (AD) order on welded pipe from Türkiye.¹ On July 5, 2024, Commerce initiated an administrative review of the Order covering 12 companies, in accordance with section 751(a) of the Tariff Act of 1930, as amended (the Act).² On July 22, 2024, Commerce tolled certain deadlines in this administrative proceeding by seven days.³ On December 9, 2024, Commerce tolled certain deadlines in this administrative proceeding by an additional 90 days.⁴ On April 29, 2025, Commerce extended the deadline for the preliminary results of this administrative review until June 5, 2025.⁵ Finally, on May 30, 2025, Commerce extended the deadline for the preliminary results of this administrative review until July 23, 2025.⁶

¹ See Large Diameter Welded Pipe from the Republic of Turkey: Amended Final Affirmative Antidumping Duty Determination and Antidumping Duty Order, 84 FR 18799 (May 2, 2019); and Large Diameter Welded Pipe from the Republic of Turkey: Notice of Court Decision Not in Harmony With Amended Final Determination in the Less-Than-Fair-Value Investigation; Notice of Amended Final Determination Pursuant to Court Decision; and Notice of Revocation of Antidumping Duty Order, in Part, 85 FR 35262 (June 9, 2020) (Amended Final Determination) (collectively, Order).

² See Initiation of Antidumping and Countervailing Duty Administrative Reviews, 89 FR 55567 (July 5, 2024) (Initiation Notice).

³ See Memorandum, “Tolling of Deadlines for Antidumping and Countervailing Duty Proceedings,” dated July 22, 2024.

⁴ See Memorandum, “Tolling of Deadlines for Antidumping and Countervailing Duty Proceedings,” dated December 9, 2024.

⁵ See Memorandum, “Extension of Deadline for Preliminary Results of 2023—2024 Antidumping Duty Administrative Review,” dated April 29, 2025.

⁶ See Memorandum, “Extension of Deadline for Preliminary Results of 2023—2024 Antidumping Duty Administrative Review,” dated May 30, 2025.

For details regarding the events that occurred subsequent to the initiation of this review, see the Preliminary Decision Memorandum.⁷ A list of topics discussed in the Preliminary Decision Memorandum is included in as an appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁷ See Memorandum, “Decision Memorandum for the Preliminary Results of the Antidumping Duty Administrative Review of Large Diameter Welded Pipe from the Republic of Türkiye; 2023-2024,” dated concurrently with, and hereby adopted by, this notice (Preliminary Decision Memorandum).

Scope of the Order

The merchandise covered by the Order is welded pipe from Türkiye. For a complete description of the scope of the Order, see the Preliminary Decision Memorandum.

Partial Rescission of Administrative Review

Pursuant to 19 CFR 351.213(d)(1), Commerce will rescind an administrative review, in whole or in part, if a party who requested the review withdraws the request within 90 days of the date of publication of the notice of initiation in the Federal Register. On October 3, 2024, the petitioner ⁸ timely withdrew its request for review of three companies: (1) Noksel Celik Boru Sanayi A.S. (Noksel); (2) Toscelik Profil ve Sac End. A.S.⁹ (Toscelik Profil); and (3) Toscelik Spiral Boru Uretim A.S. (Toscelik Spiral).¹⁰ Because no other party requested a review of Noksel, Toscelik Profil, or Toscelik Spiral, Commerce is rescinding this review with respect to these companies, in accordance with 19 CFR 351.213(d)(1).

⁸ The petitioner is the American Line Pipe Producers Association Trade Committee.

⁹ In English, this company's name is Toscelik Profile and Sheet Ind. Co.

¹⁰ See Petitioner's Letter, “Partial Withdrawal of Request for Administrative Review,” dated October 3,2024.

Further, pursuant to 19 CFR 351.213(d)(3), Commerce will rescind an administrative review when there are no reviewable entries of subject merchandise during the POR for which liquidation is suspended.¹¹ Normally, upon completion of an administrative review, the suspended entries are liquidated at the AD assessment rate calculated for the review period.¹² Therefore, for an administrative review of a company to be conducted, there must be a reviewable, suspended entry that Commerce can instruct CBP to liquidate at the AD assessment rate calculated for the POR.¹³

¹¹ See, e.g., Large Diameter Welded Pipe from Greece: Rescission of Antidumping Duty Administrative Review; 2022-2023, 89 FR 4274 (January 23, 2024).

¹² See 19 CFR 351.212(b)(2).

¹³ See 19 CFR 351.213(d)(3).

On September 5, 2024, we notified parties of our intent to rescind this administrative review, in part, with respect to the following companies because there were no suspended entries of subject merchandise produced or exported by these companies during the POR: (1) Cagil Makina San ve Tic A.S. AKA Cagil Makina A.S. (Cagil); (2) Cimtas Boru Imalatiral Ticaret Ltd. (Cimtas); (3) Erciyas Celik Boru Sanayi A.S. (Erciyas); (4) Mazlum Mangtay Boru Son. Ins. Tar. Urn. San. ve Tic. A.S. (Mazlum); (5) Ozbal Celik Boru San. Tic. Ve TAAH A.S. (Ozbal); (6) Spirally Welded Steel Pipe Inc. (Spirally Welded); and (7) Umran Celik Boru Sanayii A.S. (Umran).¹⁴ We invited interested parties to comment on our intent to rescind the review, in part; ¹⁵ however, we received no comments from interested parties. Therefore, in the absence of any suspended entries of subject merchandise from Cagil, Cimtas, Erciyas, Mazlum, Ozbal, Spirally Welded, and Umran during the POR, we are rescinding the administrative review for these companies, in accordance with 19 CFR 351.213(d)(3).

¹⁴ See Memorandum, “Notice of Intent to Rescind Review, In Part,” dated September 5, 2024.

¹⁵ Id.

Methodology

Commerce is conducting this review in accordance with sections 751(a)(1) and (2) of the Act. We calculated constructed export price in accordance with section 772(b) of the Act. We calculated NV in accordance with section 773 of the Act. For a full description of the methodology underlying these preliminary results, see the Preliminary Decision Memorandum.

Review-Specific Rate for Companies Not Selected for Individual Review

The Act and Commerce's regulations do not address the rate to be applied to companies not selected for individual examination when Commerce limits its examination in an administrative review pursuant to section 777A(c)(2) of the Act. Generally, Commerce looks to section 735(c)(5) of the Act, which provides instructions for calculating the all-others rate in a less-than-fair value (LTFV) investigation, for guidance when calculating the rate for companies which were not selected for individual examination in an administrative review. Under section 735(c)(5)(A) of the Act, the all-others rate is normally an amount equal to the weighted average of the estimated weighted-average dumping margins established for exporters and producers individually investigated, excluding any zero or de minimis margins, and any margins determined entirely on the basis of facts available.

Where the weighted-average dumping margins for individually examined respondents are zero, de minimis, or determined based entirely on facts available, section 735(c)(5)(B) of the Act provides that Commerce may use “any reasonable method to establish the estimated all-others rate for exporters and producers not individually investigated . . .” In this review, Commerce preliminarily calculated a weighted-average dumping margin of zero percent for HDM Celik Boru Sanayi Ve Ticaret A.S (HDM). Therefore, we are preliminarily assigning a rate of zero percent to Emek Boru Makine Sanayi ve Ticaret A.S. (Emek Boru), the company not selected for individual examination in this review, in accordance with section 735(c)(5)(B) of the Act.

Preliminary Results of the Review

We preliminarily determine that the following estimated weighted-average dumping margins exist for the period of May 1, 2023 through April 30, 2024:

Producer or Exporter | Weighted- average dumping margin (percent)
HDM Celik Boru Sanayi Ve Ticaret A.S.¹⁶ | 0.00
Emek Boru Makine Sanayi ve Ticaret A.S | 0.00

Verification

¹⁶ This rate also applies to HDM Spiral Kaynakli Celik Boru A.S., the English name of which is HDM Spirally Welded Steel Pipe Inc.

On October 14, 2024, the petitioner requested that Commerce conduct verification of the factual information submitted by HDM in this administrative review.¹⁷ Accordingly, as provided in section 782(i)(3) of the Act, we verified the information we relied upon in these preliminary results.¹⁸

¹⁷ See Petitioner's Letter, “Request for Verification,” dated October 14, 2024.

¹⁸ See Memoranda, “Verification of the Sales Response of HDM Çelik Boru Sanayi ve Ticaret A.Ş.,” dated May 1, 2025; and “Verification of the Sales Response of JD Fields & Company,” dated May 12, 2025.

Disclosure

Commerce intends to disclose its calculations and analysis performed to interested parties for these preliminary results within five days of any public announcement or, if there is no public announcement, within five days of the date of publication of this notice in accordance with 19 CFR 351.224(b).

Public Comment

Case briefs or other written comments may be submitted to the Assistant Secretary for Enforcement and Compliance. Pursuant to 19 CFR 351.309(c)(1)(ii), we have modified the deadline for interested parties to submit case briefs to Commerce to no later than 21 days after the date of the publication of this notice. Rebuttal briefs, limited to issues raised in case briefs, may be filed no later than five days after the date for filing case briefs.¹⁹ Interested parties who submit case briefs or rebuttal briefs in this proceeding must submit: (1) a table of contents listing each issue; and (2) a table of authorities.²⁰ All briefs must be filed electronically using ACCESS. An electronically filed document must be received successfully in its entirety in ACCESS by 5:00 p.m. Eastern Time on the established deadline.

¹⁹ See 19 CFR 351.309(d); see also Administrative Protective Order, Service, and Other Procedures in Antidumping and Countervailing Duty Proceedings, 88 FR 67069, 67077 (September 29, 2023) (APO and Service Final Rule).

²⁰ See 19 CFR 351.309(c)(2) and (d)(2).

As provided under 19 CFR 351.309(c)(2) and (d)(2), in prior proceedings, we have encouraged interested parties to provide an executive summary of their briefs that should be limited to five pages total, including footnotes. In this review, we instead request that interested parties provide, at the beginning of their briefs, a public executive summary for each issue raised in their briefs.²¹ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).²²

²¹ We use the term “issue” here to describe an argument that Commerce would normally address in a comment of the Issues and Decision Memorandum.

²² See APO and Service Final Rule.

Pursuant to 19 CFR 351.310(c), interested parties who wish to request a hearing must submit a written request to the Assistant Secretary for Enforcement and Compliance, U.S. Department of Commerce within 30 days after the date of publication of this notice. Requests should contain: (1) the party's name, address, and telephone number; (2) the number of participants; and (3) a list of the issues to be discussed. Issues raised in the hearing will be limited to those raised in the respective case briefs. Oral presentations at the hearing will be limited to issues raised in the briefs. If a request for a hearing is made, parties will be notified of the time and date for the hearing.²³

²³ See 19 CFR 351.310(d).

Assessment Rates

Upon completion of this administrative review, Commerce shall determine, and CBP shall assess, antidumping duties on all appropriate entries covered by this review.²⁴ The final results of this review shall be the basis for the assessment of antidumping duties on entries of merchandise covered by this review and for future deposits of estimated duties, where applicable.²⁵ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

²⁴ See 19 CFR 351.212(b)(1)

²⁵ See section 751(a)(2)(C) of the Act.

Pursuant to 19 CFR 351.212(b)(1), if HDM's weighted-average dumping margin is not zero or de minimis (i.e., less than 0.5 percent) in the final results of this review, we intend to calculate importer-specific ad valorem antidumping duty assessment rates based on the ratio of the total amount of antidumping duties calculated for the examined sales to the total entered value of those same sales. If HDM's weighted-average dumping margin in the final results is zero or de minimis within the meaning of 19 CFR 351.106(c)(1), or an importer-specific rate is zero or de minimis within the meaning of 19 CFR 351.106(c)(2), we intend to instruct CBP to liquidate the appropriate entries without regard to antidumping duties.²⁶

²⁶ Id.

Commerce's “automatic assessment” practice will apply to entries of subject merchandise during the POR produced by HDM for which it did not know that the merchandise it sold to an intermediary (e.g., a reseller, trading company, or exporter) was destined for the United States. In such instances, we will instruct CBP to liquidate those entries at the all-others rate (i.e., 1.57 percent) ²⁷ if there is no rate for the intermediate company(ies) involved in the transaction.²⁸

²⁷ See Amended Final Determination, 85 FR at 35263.

²⁸ For a full discussion of this practice, see Antidumping and Countervailing Duty Proceedings: Assessment of Antidumping Duties, 68 FR 23954 (May 6, 2003).

For Emek Boru, the company that was not selected for individual examination, we intend to assign an assessment rate equal to the weighted-average dumping margin calculated in the final results of this review for HDM, unless that rate is zero or de minimis, in which case we intend to instruct CBP to liquidate relevant entries without regards to antidumping duties.

For the companies for which we are rescinding this review, we will instruct CBP to assess antidumping duties on all appropriate entries at a rate equal to the cash deposit of estimated antidumping duties required at the time of entry, or withdrawal from warehouse, in accordance with 19 CFR 351.212(c)(l)(i). Commerce intends to issue these rescission instructions to CBP no earlier than 35 days after the date of publication of this notice in the Federal Register.

Cash Deposit Requirements

The following cash deposit requirements will be effective for all shipments of the subject merchandise entered, or withdrawn from warehouse, for consumption on or after the publication date of the final results of this administrative review, as provided by section 751(a)(2)(C) of the Act: (1) the cash deposit rate for the companies listed above will be equal to the weighted-average dumping margin established in the final results of this review, except if the rate is de minimis (i.e., less than 0.50 percent), in which case the cash deposit rate will be zero; (2) for previously reviewed or investigated companies not covered by this review, the cash deposit rate will continue to be the company-specific rate published for the most recently-completed segment of this proceeding in which the company was examined; (3) if the exporter is not a firm covered in this review, a prior review, or the LTFV investigation, but the producer is, the cash deposit rate will be the rate established for the most recently-completed segment of this proceeding for the producer of the merchandise; and (4) the cash deposit rate for all other producers or exporters will continue to be 1.57 percent, the all-others rate established in the Amended Final Determination. ²⁹ These cash deposit requirements, when imposed, shall remain in effect until further notice.

²⁹ See Amended Final Determination, 85 FR at 35263.

Final Results of Review

Unless otherwise extended, Commerce intends to issue the final results of this administrative review including the results of its analysis of issues raised in written briefs, no later than 120 days after the date of publication of this notice in the Federal Register, pursuant to 751(a)(3)(A) of the Act and 19 CFR 351.213(h)(1).

Notification to Importers

This notice also serves as a preliminary reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Notification to Interested Parties

We are issuing and publishing these results in accordance with sections 751(a)(1) and 777(i)(1) of the Act, 19 CFR 351.213, and 351.221(b)(4).

Dated: July 22, 2025.
Christopher Abbott,
Deputy Assistant Secretary for Policy and Negotiations, performing the non-exclusive functions and duties of the Assistant Secretary for Enforcement and Compliance.

Appendix

List of Topics Discussed in the Preliminary Decision Memorandum

I. Summary

II. Background

III. Scope of the Order

IV. Discussion of the Methodology

V. Currency Conversion

VI. Recommendation

[FR Doc. 2025-14214 Filed 7-25-25; 8:45 am]

BILLING CODE 3510-DS-P